DEPARTMENT OF HEALTH AND HUMAN SERVICES

National Institutes of Health

Office of the Director, National Institutes of Health; Amended Notice of Meeting

Notice is hereby given of a change in the meeting of the NIH Scientific Management Review Board, November 12, 2009, 1 p.m. to November 13, 2009, 12 p.m., National Institutes of Health, Building 31, 6th Floor, Conference Room 6, 31 Center Drive, Bethesda, MD 20892 which was published in the Federal Register on October 22, 2009, 74 FR 54583-54584.

The notice is being amended to change the meeting date to November 13, 2009 from 8:30 a.m. to 3 p.m. Sign up for public comment will begin at 8 a.m. Please see the Scientific Management Review Board Web site for the schedule of upcoming meetings at: http://smrb.od.nih.gov.

FOR FURTHER INFORMATION CONTACT: Dr. Lyric Jorgenson, Office of Science Policy, Office of the Director, National Institutes of Health, Building 1, Room 218, MSC 0166, 9000 Rockville Pike, Bethesda, MD 20892, smrb@mail.nih.gov, (301) 496-6837.

Dated: November 4, 2009.
Jennifer Spaeth,
Director, Office of Federal Advisory Committee Policy.

[FR Doc. E9-27123 Filed 11-9-09; 8:45 am]

BILLING CODE 4140-01-P